DEPARTMENT OF AGRICULTURE

Office of the Chief Economist; Global Climate Change, Food Security, and the U.S. Food System

AGENCY: Office of the Chief Economist, U.S. Department of Agriculture.

ACTION: Request for nominations of expert peer reviewers.

SUMMARY: The U.S. Department of Agriculture (USDA) invites the public to nominate scientific experts to be considered as peer reviewers for the external peer review of the draft document entitled, “Global Climate Change, Food Security, and the U.S. Food System.” The draft document was prepared by USDA and a team of multi-institutional experts to support the National Climate Assessment. The draft document is a technical analysis of the issues, and policy considerations are outside its scope.

DATES: Responses to this notice should be submitted by 11:59 p.m. Eastern Time on August 7, 2014.

ADDRESSES: Any interested person or organization may nominate scientific experts to be considered as a peer reviewer. Self-nominations will be accepted. Nominations may be submitted electronically or by overnight/priority mail service. Nominations may not be submitted via the U.S. Postal Service. Nominations must include all nominee information outlined in Section II of the SUPPLEMENTARY INFORMATION section of this document.

• Email: ccpo@oce.usda.gov, Subject Line: Peer-Review Nomination.

• Overnight/Priority/Courier: U.S. Department of Agriculture, Climate Change Program Office, 1400 Independence Avenue SW., Room #4407, Washington, DC 20250.

• Mail: Nominations cannot be accepted via the U.S. Postal Service.

Instructions: Please see Supplementary Information II below for more information and necessary materials.

FOR FURTHER INFORMATION CONTACT: Questions concerning nomination receipt should be directed to Margaret Walsh of the Climate Change Program Office via Email: ccpo@oce.usda.gov or by telephone 202-720-9978.

SUPPLEMENTARY INFORMATION:

I. Information on the Draft Documents for Global Climate Change, Food Security, and the U.S. Food System

This report will be published as a USDA technical document. Publication is anticipated in the Fall of 2015. Connections between weather, climate, and food security have long been recognized. This report evaluates the possible changes to each element of the food system and food security as a result of changes in climate based on information in the peer-reviewed scientific and economic literature. Temperature and precipitation patterns, as well as changes in weed, pest, and disease prevalence are already occurring under a changing climate. These effects are expected to result in transformations in ecosystem functioning and in the economic viability of agriculture in many regions of the world, as well as in the refrigeration requirements of food products, transportation patterns, and other effects. The U.S. is currently a major food importer and exporter, and provides a safety net for many food insecure nations. Global changes both in climate and in food security are therefore likely to influence the U.S. food system through altered production decisions, the goods available to consumers, and their prices.

The Global Climate Change, Food Security, and the U.S. Food System report will examine how a changing climate may affect global food security today, in 25 years, and in 100 years. The report, to be published by USDA as a technical input to the National Climate Assessment, will provide a review of current literature and will report on analyses that illuminate the interactions between climate and food security. Food security is a social and economic concept, and its relationship with agriculturally relevant weather dynamics, and ultimately climate change, is complex. The report will explore these connections, discuss the implications of a changing climate for food security and food systems globally, and present implications for U.S. producers and consumers.

II. How To Submit Nominations for Peer Reviewers

Expertise Sought: USDA is seeking candidates who are nationally and/or internationally recognized scientific experts to serve as external peer reviewers. Nominees should possess and demonstrate background knowledge and experience in one or more of the following areas: Food security; food systems; agricultural production; economic access to food; food utilization; stability of food availability, access, or utilization; climate change; food production; agricultural employment; food storage; food transportation; food processing, food packaging, food retailing, food consumption and food disposal. Reviewers may not be authors or technical contributors to the draft report. Qualified experts representing a range of educational institutions, international institutions, non-governmental/non-profit organizations, private industry, independent scientific institutions, and the Federal service are desired for the final review panel. No travel will be required, but nominees must be available between September 18, 2014 and November 7, 2014 to comprehensively review the 250 (estimated)-page draft report. A form will be provided to reviewers for comments and proposed edits.

Selection Criteria: Selection criteria for individuals nominated to serve as external peer reviewers of the draft documents include the following: (1) Demonstrated expertise through relevant peer reviewed publications, (2) professional accomplishments and recognition by professional societies, (3) demonstrated ability to work constructively and effectively toward scientific consensus, and (4) willingness to commit adequate time for a thorough review of the draft document commencing in September, 2014.

Required Nominee Information: To receive full consideration, the following information should be provided in the nomination materials: (1) Contact information for the person making the nomination (self-nominations are acceptable); (2) contact information for the nominee; (3) the disciplinary and specific areas of expertise of the nominee; (4) the nominee's curriculum vita; and (5) a biographical sketch of the nominee indicating current position, educational background, past and current research activities, recent relevant service, and other comments on the relevance of the nominee's expertise to this peer review topic. Compensation is not available, in order to ensure an unbiased review process.

Selection Process: An interagency panel will select from the available nominees according to the selection criteria presented above. An independent search for candidates to assemble a balanced group representing the expertise needed to fully evaluate the draft document may also occur. Up to eight reviewers will be selected who best provide expertise spanning the multiple areas listed above and, to the extent feasible, best provide a balance of perspectives.

Persons with disabilities who require alternate means for communication of program information (Braille, large print, audio tape, etc.) should contact USDA's Target Center at (202) 720-2600 (voice and TDD).

Joseph W. Glauber,
Chief Economist.

[FR Doc. 2014-15872 Filed 7-7-14; 8:45 am]

BILLING CODE 3410-18-P